DEPARTMENT OF THE TREASURY

Submission for OMB Review; Comment Request

August 5, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 11, 2002 to be assured of consideration.

Internal Revenue Service

OMB Number: New.

Form Number: IRS Form 8718.

Type of Review: New collection.

Title: User Fee for Exempt Organization Determination Letter Request.

Description: The Omnibus Reconciliation Act of 1990 requires payment of a “user fee” with each application for a determination letter. Because of this requirement, the Form 8718 was created to provide filers the means to make payment and indicate the type of request.

Respondents: Business or other for-profit, not-for-profit institutions.

Estimated Number of Respondents: 200,000.

Estimated Burden Hours Per Respondent: 5 minutes.

Frequency of Response: On occasion.

Estimated Total Reporting Burden: 16,667 hours.

OMB Number: 1545-0091.

Form Number: IRS Form 1040X.

Type of Review: Revision.

Title: Amended U.S. Individual Income Tax Return.

Description: Form 1040X is used by individuals to amend an original tax return to claim a refund of income taxes, pay additional income taxes, or designate $3 to the Presidential Election Campaign Fund. The information is needed to help verify that the individual has correctly figured his or her income tax.

Respondents: Individuals or households, business or other for-profit, farms.

Estimated Number of Respondents/Recordkeepers: 2,929,311.

Estimated Burden Hours Per Respondent/Recordkeeper:

Recordkeeping—1 hr., 18 min.

Learning about the law or the form—28 min.

Preparing the form—1 hr., 11 min.

Copying, assembling, and sending the form to the IRS—34.

Frequency of Response: On occasion.

Estimated Total Reporting/Recordkeeping Burden: 10,399,055 hours.

OMB Number: 1545-0714.

Form Number: IRS Forms 8027 and 8027-T.

Type of Review: Extension.

Title: Employers Annual Information Return of Tip Income and Allocated Tips (Form 8027); and Transmittal of Employer's Annual Information Return of Tip Income and Allocated Tips (Form 8027-T).

Description: To help IRS in its examinations of returns filed by tipped employees, large food or beverage establishments are required to report annually information concerning food or beverage operations receipts, tips, reported by employees, and in certain cases, the employer must allocate tips to certain employees.

Respondents: Business or other for-profit, individuals or households, not-for-profit institutions, State, Local or Tribal Government.

Estimated Number of Respondents/Recordkeepers: 52,050.

Estimated Burden Hours Per Respondent/Recordkeeper
| Form 8027 | Form 8027-T
Recordkeeping | 9 hr., 47 min. | 43 min.
Learning about the law or the form | 53 min. | 0 min.
Preparing and sending the form to the IRS | 1 hr., 4 min. | 0 min.

Frequency of Response: Annually.

Estimated Total Reporting/Recordkeeping Burden: 488,161 hours.

OMB Number: 1545-1788.

Form Number: IRS Form 13259.

Type of Review: Extension.

Title: Taxpayer Advocacy Panel (TAP) Membership Application.

Description: An application to volunteer to serve on the Taxpayer Advocacy Panel, an advisory panel to the IRS.

Respondents: Individuals or households, Business or other for-profit.

Estimated Number of Respondents: 750.

Estimated Burden Hours Per Respondent: 1 hour, 30 minutes.

Frequency of Response: On occasion.

Estimated Total Reporting Burden: 1,125 hours.

OMB Number: 1545-1791.

Form Number: IRS Form 12339-A.

Type of Review: Extension.

Title: Tax Check Waiver.

Description: The tax check waiver is necessary for the purpose of ensuring that all panel members are tax compliant. Information provided will be used to qualify or disqualify individuals to serve as panel members. The information will be used as appropriate by the Taxpayer Advocate service staff, and other appropriate IRS personnel.

Respondents: Individuals or households, Business or other for-profit.

Estimated Number of Respondents: 250.

Estimated Burden Hours Per Respondent: 10 minutes.

Frequency of Response: On occasion.

Estimated Total Reporting Burden: 42 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports Management Officer.

[FR Doc. 02-20342 Filed 8-9-02; 8:45 am]

BILLING CODE 4830-01-P